POSTAL RATE COMMISSION

Sunshine Act Meetings

NAME OF AGENCY: Postal Rate Commission.

TIME AND DATE: Tuesday, August 9, 2005, at 10:30 a.m.

PLACE: Commission conference room, 1333 H Street, NW., Suite 300, Washington, DC 20268-0001.

STATUS: Open.

MATTERS TO BE CONSIDERED: Consideration of fiscal year 2006 budget; election of vice chairman.

FOR FURTHER INFORMATION CONTACT: Stephen L. Sharfman, General Counsel, at (202) 789-6820.

Dated: August 4, 2005.
Steven W. Williams,
Secretary.

[FR Doc. 05-15769 Filed 8-4-05; 4:27 pm]

BILLING CODE 7710-FW-M